FEDERAL RETIREMENT THRIFT INVESTMENT BOARD

Employee Thrift Advisory Council

Sunshine Act Meeting

Time and Date: 1:30 p.m. (Eastern Time), June 12, 2007.

Place: 4th Floor, Conference Room, 1250 H Street, NW., Washington, DC.

Status: Open.

Matters To Be Considered:

1. Approval of the minutes of the February 7, 2007 meeting.

2. Nomination of Council Chairman and election of Vice Chairman.

3. Report of the Executive Director on Thrift Savings Plan Status.

4. Discussion of three potential FRTIB legislative proposals (automatic enrollment, L Fund default investments, Roth feature).

5. Other proposals.

6. New business.

Contact Person For More Information: Thomas K. Emswiler, Committee Management Officer, (202) 942-1660.

Dated: May 25, 2007.
Thomas K. Emswiler,
General Counsel, Federal Retirement Thrift Investment Board.

[FR Doc. 07-2703 Filed 5-29-07; 9:44 am]

BILLING CODE 6760-01-P